ENVIRONMENTAL PROTECTION AGENCY

[FRL-6721-1]

Notice of Availability of Letter From EPA to the State of Wisconsin Pursuant to Section 118 of the Clean Water Act and the Water Quality Guidance for the Great Lakes System

AGENCY: Environmental Protection Agency (EPA).

ACTION: Notice of availability.

SUMMARY: Notice is hereby given of a June 13, 2000 letter written from Region 5 of the Environmental Protection Agency (EPA) to the State of Wisconsin finding that certain provisions adopted as part of the State's water quality standards and National Pollutant Discharge Elimination System (NPDES) permits program are inconsistent with section 118(c) of the Clean Water Act (CWA) and 40 CFR part 132. EPA's findings are described in the June 13, 2000 letter to Wisconsin. The letter also expresses EPA's belief that, with the exceptions of those inconsistencies, Wisconsin has otherwise adopted requirements that are consistent with the remainder of 40 CFR part 132. EPA invites public comment on all aspects of that letter, particularly on the findings in the letter and on the course of action that EPA proposes to take if the State fails to adequately address EPA's findings.

DATES: Comments must be received in writing by August 7, 2000.

ADDRESSES: Written comments on EPA's findings as described in the June 13, 2000 letter may be submitted to Mery Jackson-Willis, Standards and Applied Sciences Branch (WT-15J), Water Division, U.S. Environmental Protection Agency, Region 5, 77 West Jackson Boulevard, Chicago, Illinois, 60604. In the alternative, EPA will accept comments electronically. Comments should be sent to the following Internet E-mail address: jackson-willis.mery@epamail.epa.gov. Electronic comments must be submitted in an ASCII file avoiding the use of special characters and any form of encryption. EPA will print electronic comments in hard-copy paper form for the official administrative record. EPA will attempt to clarify electronic comments if there is an apparent error in transmission. Comments provided electronically will be considered timely if they are submitted electronically by 11:59 p.m. (Eastern time) August 7, 2000.

FOR FURTHER INFORMATION CONTACT: Mery Jackson-Willis, Standards and Applied Sciences Branch (WT-15J), Water Division, U.S. Environmental Protection Agency, Region 5, 77 West Jackson Boulevard, Chicago, Illinois 60604, or telephone her at (312) 886-3717.

Copies of the June 13, 2000 letter described above is available upon request by contacting Ms. Jackson-Willis. That letter and materials submitted by the State in support of its submission that EPA relied upon in preparing that letter (i.e., the docket) are available for review by appointment at: EPA, Region 5, 77 W Jackson Boulevard, Chicago, Illinois (telephone 312-886-3717); and the Wisconsin Department of Natural Resources, 101 South Webster Street, Madison, Wisconsin (telephone: 608-267-2621). To access the docket material in Chicago, call Ms. Mery Jackson-Willis at (312) 886-3717 between 8 a.m. and 4:30 p.m. (central time) (Monday-Friday); in Wisconsin, call Mr. Robert Masnado at (608) 267-7662 between 8 a.m. and 4:30 p.m. (central time).

SUPPLEMENTARY INFORMATION: On March 23, 1995, EPA published the Final Water Quality Guidance for the Great Lakes System (Guidance) pursuant to section 118(c)(2) of the Clean Water Act, 33 U.S.C. 1268(c)(2). (March 23, 1995, 60 FR 15366). The Guidance, which was codified at 40 CFR Part 132, requires the Great Lakes States to adopt and submit to EPA for approval water quality criteria, methodologies, policies and procedures that are consistent with the Guidance. 40 CFR 132.4 & 132.5. EPA is required to approve of the State's submission within 90 days or notify the State that EPA has determined that all or part of the submission is inconsistent with the Clean Water Act or the Guidance and identify any necessary changes to obtain EPA approval. If the State fails to make the necessary changes within 90 days, EPA must publish a notice in the Federal Register identifying the approved and disapproved elements of the submission and a final rule identifying the provisions of Part 132 that shall apply for discharges within the State.

EPA reviewed the submittals from Wisconsin for consistency with the Guidance in accordance with 40 CFR 131 and 132.5. EPA determined that certain parts of Wisconsin's submittal are inconsistent with the requirements of the CWA or 40 CFR Part 132 and will be subject to EPA disapproval if not corrected. On June 13, 2000, in a letter from EPA Region 5 to the Wisconsin Department of Natural Resources, EPA described in detail those provisions determined to be inconsistent with the Guidance and subject to disapproval if not remedied by the State. The inconsistencies relate to the following components of the State's submittal in conformance with section 118(c) of the CWA and 40 CFR Part 132: aquatic life and human health criteria, antidegradation, variances, total maximum daily loads, the procedures for evaluating the need for permit limits on specific chemicals, the procedures for evaluating the need for limits on whole effluent toxicity, water quality based effluent limits below the level of quantification, and compliance schedules. Based on our review to date, EPA believes that, with the above exceptions, the submittal by Wisconsin is consistent with the Guidance. Today, EPA is soliciting public comment regarding all aspects of its June 13, 2000 letter. In particular, EPA solicits comments on the provisions identified in the June 13, 2000 letter as being inconsistent with the CWA and the Guidance, on EPA's proposed course of action if Wisconsin fails to remedy those inconsistencies, and on EPA's belief that the remainder of Wisconsin's submittal is consistent with the Guidance. EPA's letter to Wisconsin also describes the provisions of the Guidance that EPA would identify in a final rule as applying to discharges in the Great Lakes Basin in Wisconsin if the identified inconsistencies are not addressed by the State. EPA may decide to identify in such a rule the provisions described in EPA's letter to the State, or other relevant provisions of the Guidance that EPA determines upon completion of this process to be appropriate. EPA broadly solicits comment regarding what provisions of the Guidance would be appropriate for EPA to identify in such a rule.

During the next 90 days, EPA intends to continue working with Wisconsin to address the inconsistencies identified in the June 13, 2000 letter. If Wisconsin fails to remedy any of the inconsistencies identified in the letter, EPA will publish a notice in the Federal Register identifying the disapproved elements and the corresponding portions of Part 132 that will apply to waters within the Great Lakes Basin in Wisconsin.

Dated: June 13, 2000.
Francis X. Lyons,
Regional Administrator, Region 5.

[FR Doc. 00-15838 Filed 6-21-00; 8:45 am]

BILLING CODE 6560-50-U